DEPARTMENT OF STATE

[Public Notice 10444]

Notice of Receipt of Request From the Government of the People's Democratic Republic of Algeria Under Article 9 of the 1970 UNESCO Convention on the Means of Prohibiting and Preventing the Illicit Import, Export and Transfer of Ownership of Cultural Property

AGENCY: Department of State.

ACTION: Notice.

SUMMARY: Notice of receipt of request from Algeria for cultural property protection.

FOR FURTHER INFORMATION CONTACT: Catherine Foster, Cultural Heritage Center, Bureau of Educational and Cultural Affairs: 202-632-6301; culprop@state.gov.

SUPPLEMENTARY INFORMATION: The Government of Algeria has made a request to the Government of the United States under Article 9 of the 1970 UNESCO Convention on the Means of Prohibiting and Preventing the Illicit Import, Export and Transfer of Ownership of Cultural Property. The United States Department of State received this request on February 27, 2018. Algeria's request seeks U.S. import restrictions on archaeological and ethnological material representing Algeria's cultural patrimony. Pursuant to the authority vested in the Assistant Secretary of State for Educational and Cultural Affairs, and pursuant to 19 U.S.C. 2602(f)(1), notification of the request is hereby published. A public summary of Algeria's request and information about U.S. implementation of the 1970 UNESCO Convention will be available at the Cultural Heritage Center website: http://culturalheritage.state.gov.

Marie Therese Porter Royce,
Assistant Secretary, Bureau of Educational and Cultural Affairs, Department of State.

[FR Doc. 2018-12677 Filed 6-12-18; 8:45 am]

BILLING CODE 4710-05-P